DEPARTMENT OF LABOR

Employment and Training Administration

[TA-W-55,262]

JDS Uniphase Corporation, Including On-Site Leased Workers of Manpower, Ciber and Spherion, Rochester, MN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on August 16, 2004, applicable to workers of JDS Uniphase Corporation, including leased workers of Manpower and Ciber, Rochester, Minnesota. The notice was published in the Federal Register on September 8, 2004 (69 FR 54321).

At the request of the company, the Department reviewed the certification for workers of the subject firm. The workers are engaged in the production of optical transceivers.

New information shows that leased workers of Spherion were employed on-site at the Rochester, Minnesota location of JDS Uniphase Corporation.

Based on these findings, the Department is amending this certification to include leased workers of Spherion working on-site at JDS Uniphase Corporation, Rochester, Minnesota.

The intent of the Department's certification is to include all workers employed at JDS Uniphase Corporation, Rochester, Minnesota who were adversely affected by a shift in production to Mexico and Thailand.

The amended notice applicable to TA-W-55,262 is hereby issued as follows:

All workers of JDS Uniphase Corporation, Rochester, Minnesota, including on-site leased workers of Manpower, Ciber and Spherion, who became totally or partially separated from employment on or after June 25, 2003, through August 16, 2006, are eligible to apply for adjustment assistance under Section 223 of the Trade Act of 1974, and are also eligible to apply for alternative trade adjustment assistance under Section 246 of the Trade Act of 1974.

Signed at Washington, DC, this 21st day of March 2006.
Richard Church,
Certifying Officer, Division of Trade Adjustment Assistance.

[FR Doc. E6-4587 Filed 3-28-06; 8:45 am]

BILLING CODE 4510-30-P